DEPARTMENT OF DEFENSE

Office of the Secretary

[Transmittal No. 23-0C]

Arms Sales Notification

AGENCY: Defense Security Cooperation Agency, Department of Defense (DoD).

ACTION: Arms sales notice.

SUMMARY: The DoD is publishing the unclassified text of an section arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 23-0C.

Dated: August 16, 2024.
Aaron T. Siegel,
Alternate OSD Federal Register Liaison Officer, Department of Defense.

BILLING CODE 6001-FR-P

BILLING CODE 6001-FR-C

Transmittal No. 23-0C

REPORT OF ENHANCEMENT OR UPGRADE OF SENSITIVITY OF TECHNOLOGY OR CAPABILITY (SEC. 36(B)(5)(C), AECA)

(i) Purchaser: Republic of Korea

(ii) Sec. 36(b)(1), AECA Transmittal No.: 18-35

Date: September 13, 2018

Military Department: Army

(iii) Description: On September 13, 2018, Congress was notified by Congressional certification transmittal number 18-35, of the possible sale, under Section 36(b)(1) of the Arms Export Control Act, of sixty-four (64) Patriot Advanced Capability-3 (PAC-3) Missile Segment Enhancement (MSE) Missiles. Also included were two (2) PAC-MSE Test Missiles, range and test programs, publications and technical documentations, training equipment, spare parts, personnel training, U.S. Government and contractor technical, engineering, and logistics support services, and other related elements of logistics and program support. The estimated total cost was $501 million. Major Defense Equipment (MDE) constituted $365 million of this total.

This transmittal notifies the inclusion of the following additional MDE items: one-hundred sixteen (116) PAC-3 Missile Segment Enhancement (MSE) missiles; and two (2) PAC-3 MSE test missiles. Also included are spare parts; U.S. Government and contractor technical, engineering, and logistics support services; and other related elements of logistics and program support. The estimated total value of these additional items is $533 million. The total estimated MDE value will increase by $514 million, resulting in a new MDE total of $879 million. The total estimated case value will increase to $1.034 billion.

(iv) Significance: The proposed sale will improve the Republic of Korea's air and missile defense capability and ensure greater interoperability with other PAC-3 MSE missile users in the region.

(v) Justification: This proposed sale will support the foreign policy goals and national security objectives of the United States by improving the security of a Major Non-NATO ally that is a force for political stability and economic progress in the Pacific region.

(vi) Sensitivity of Technology: The Sensitivity of Technology statement contained in the original notification applies to items reported here.

The highest level of classification of defense articles, components, and services included in this potential sale is SECRET.

(vii) Date Report Delivered to Congress: December 22, 2022

[FR Doc. 2024-19120 Filed 8-23-24; 8:45 am]

BILLING CODE 6001-FR-P